DEPARTMENT OF TRANSPORTATION

Federal Highway Administration

Tennessee Division: Notice To Rescind a Notice of Intent (NOI) to Prepare an Environmental Impact Statement (EIS): State Route 91 Improvements in Elizabethton, Carter County, TN

AGENCY: Federal Highway Administration (FHWA), DOT.

ACTION: Rescind NOI to prepare an EIS.

SUMMARY: The FHWA is issuing this notice to advise the public that the NOI published on February 22, 2007, at 72 FR 8054, to prepare an EIS for the State Route 91 Improvements in Elizabethton, Carter County, Tennessee, is being rescinded.

FOR FURTHER INFORMATION CONTACT: Mr. Charles J. O'Neill, Planning and Program Management Team leader, FHWA-Tennessee Division Office, 404 BNA Drive, Suite 508, Nashville, TN 37217.

SUPPLEMENTARY INFORMATION: The FHWA, in cooperation with the Tennessee Department of Transportation (TDOT) is rescinding the NOI to prepare an EIS for the State Route 91 Improvements in Elizabethton, Carter County, Tennessee.

The proposed project calls for improving the State Route 91 corridor from west of State Route 362 to just west of State Route-37 (U.S. 19E), a distance of approximately four miles. The purpose of the project is to improve traffic flow, travel time, and mobility; reduce the conflicts between vehicles on State Route 91; and create an easily navigable route to area businesses along State Route 91. Since the NOI to prepare an EIS was published in the Federal Register on February 22, 2007, TDOT has conducted public involvement and agency coordination, developed a purpose and need for the project, and developed preliminary alternatives to be examined in the EIS. The preliminary alternatives included No-Build, a Transportation System Management (TSM) alternative, build alternatives that would construct a roadway on new locations to the north and to the south of the existing roadway, and an upgrade to existing State Route 91. Preliminary screenings identified sensitive environmental features associated with new location alternatives that could result in potentially significant adverse impacts.

FHWA and TDOT have determined that a combination of TSM and upgrade improvements along existing State Route 91 would meet the need and purpose of the project and could be accomplished without potentially significant adverse impacts to sensitive environmental features. FHWA and TDOT will evaluate these improvements of State Route 91 along the existing route as a Categorical Exclusion.

Comments and questions concerning the proposed action should be directed to FHWA at the address provided above.

(Catalog of Federal Domestic Assistance Program Number 20.205, Highway Planning and Construction. The regulations implementing Executive Order 12372 regarding intergovernmental consultation on Federal programs and activities apply to this proposed program.)

Charles J. O'Neill,
Planning and Program Management Team Leader, Nashville, TN.

[FR Doc. 2010-13428 Filed 6-3-10; 8:45 am]

BILLING CODE 4910-22-P